FEDERAL COMMUNICATIONS COMMISSION

47 CFR Part 73

[MM Docket No. 00-167; FCC 04-221]

Broadcast Services; Children's Television; Cable Operators

AGENCY: Federal Communications Commission.

ACTION: Correcting amendments.

SUMMARY: This document contains a correction to the final regulation (FR Doc. 04-28173) which was published in the Federal Register of Monday, January 3, 2005 (70 FR 25). The regulation section 73.673 relates to the obligation of television broadcasters to protect and serve children in their audience.

DATES: This rule became effective on February 1, 2005.

FOR FURTHER INFORMATION CONTACT: Kim Matthews, Media Bureau, (202) 418-2120.

SUPPLEMENTARY INFORMATION: The final regulation that is subject of this correction amended section 73.673 by inadvertently removing and reserving paragraph (b). This correction revises the amendment published on January 3, 2005.

As published, the final regulations contain errors which may prove to be misleading and need to be clarified.

List of Subjects in 47 CFR Part 73

Television.

Accordingly, 47 CFR part 73 is corrected by making the following correcting amendment:

PART 73—RADIO BROADCAST SERVICES

1. The authority citation for part 73 continues to read as follows:

Authority: 47 U.S.C. 154, 303, 334, and 336.

2. Revise § 73.673 to read as follows:

§ 73.673 Public information initiatives regarding educational and informational programming for children.

Each commercial television broadcast station licensee shall provide information identifying programming specifically designed to educate and inform children to publishers of program guides. Such information shall include an indication of the age group for which the program is intended.

Federal Communications Commission.
Marlene H. Dortch,
Secretary.

[FR Doc. 05-3932 Filed 2-28-05; 8:45 am]

BILLING CODE 6712-01-P